DEPARTMENT OF JUSTICE

Antitrust Division

Notice Pursuant to the National Cooperative Research and Production Act of 1993—National Center for Manufacturing Sciences, Inc. (Formerly Known as Michigan Materials and Processing Institute)

Notice is hereby given that, on April 29, 1998, pursuant to section 6(a) of the National Cooperative Research and Production Act of 1993, 15 U.S.C. 4301 et seq. (“the Act”), National Center for Manufacturing Sciences, Inc. (formerly known as Michigan Materials and Processing Institute) has filed written notifications simultaneously with the Attorney General and the Federal Trade Commission disclosing changes in its membership status. The notifications were filed for the purpose of extending the Act's provisions limiting the recovery of antitrust plaintiffs to actual damages under specified circumstances. Specifically, DASCOM, Inc., Santa Cruz, CA; Liburdi Dimetrics Corporation, Dundas, Ontario, CANADA; Liburdi Engineering Limited, Dundas, Ontario, CANADA; Liburdi Pulseweld Corporation, Dundas, Ontario, CANADA; and Northwest Mettech Corporation, Richmond, British Columbia, CANADA have been added as active members of this venture. Also, Ecole Polytechnique, Montreal, Quebec, CANADA; Materials Technology Laboratory, CANMET, Ottawa, Ontario, CANADA; and Natural Resources Canada, Ottawa, Ontario, CANADA have been added as associate members. Also, Cimetrix Incorporated, Midvale, UT; J.P. Industrial, Inc., Canton, MI; and Littleford Brothers, Inc., Florence, KY have been dropped as parties to this venture.

No other changes have been made in either the membership or planned activity of the group research project. Membership in this group research project remains open, and National Center for Manufacturing Sciences, Inc. (formerly known as Michigan Materials and Processing Institute) intends to file additional written notification disclosing all changes in membership.

On August 7, 1990, Michigan Materials and Processing Institute (now known as National Center for Manufacturing Sciences) filed its original notification pursuant to section 6(a) of the Act. The Department of Justice published a notice in the Federal Register pursuant to section 6(b) of the Act on September 6, 1990 (55 FR 36710).

The last notification was filed with the Department on February 9, 1998. A notice was published in the Federal Register pursuant to section 6(b) of the Act on July 24, 1998 (63 FR 39902).

Constance K. Robinson,
Director of Operations, Antitrust Division.

[FR Doc. 01-13865 Filed 6-1-01; 8:45 am]

BILLING CODE 4410-11-M